DEPARTMENT OF COMMERCE

Bureau of Industry and Security

Action Affecting Export Privileges; Gerald Morey

In the Matter of: Gerald Morely, Currently Incarcerated at: Inmate Number: 29600-177, Seagoville FCI, 2113 North Highway 175, Seagoville, Texas 75159; and With an Address at: 9715 Vinewood Drive, Dallas, Texas 75,228, Respondent; Order Denying Export Privileges

On August 11, 2003, in the U.S. District Court in the Southern District of Florida, Gerald Morey (“Morey”) was convicted of violating Section 38 of the Arms Export Control Act (22 U.S.C. 2778 (2000)) (“AECA”). Specifically, Morey was found to have knowingly and willfully exported, caused to be exported, and attempted to export from the United States to Columbia via Haiti, MAK-90 rifles without first obtaining the required authorization from the U.S. Department of State, office of Defense Trade Controls.

Section 11(h) of the Export Administration Act of 1979, as amended (currently codified at 50 U.S.C. app. 2401-2420 (2000)) (“Act”) ¹ and § 766.25 of the Export Administration Regulations ² (“Regulations”) provides, in pertinent part, that “[t]he Director of Exporter Services, in consultation with the Director of the Office of Export Enforcement, may deny export privileges of any persons who has been convicted of a violation of * * * section 38 of the Arms Export Control Act,” for a period not to exceed 10 years from the date of conviction. 15 CFR 766.25(a) and (d). In addition, § 750.8 of the Regulations states that BIS's Office of Exporter Services may revoke any BIS licenses previously issued in which the person had an interest in at the time of his conviction.

¹ From August 21, 1994 through November 12, 2000, the Act was in lapse. During that period, the President, through Executive Order 1294, which had been extended by successive Presidential Notices, the last of which was August 3, 2000 (3 CFR, 2000 Comp. 397 (2001)), continued the Regulations in effect under the International Emergency Economic Powers Act (50 U.S.C. 1701-1706 (2000)) (“IEEPA”). On November 13, 2000, the Act was reauthorized by Pub. L. 106-508 (114 Stat. 2360 (2000)) and it remained in effect through August 20, 2001. Executive Order 13222 of August 17, 2001 (3 CFR, 2001 Comp. 783 (2002)), which has been extended by successive Presidential Notices, the most recent being that of August 6, 2004, (69 FR 48763, August 10, 2004), continues the Regulations in effect under IEEPA.

² The Regulations are currently codified at 15 CFR Parts 730-774 (2004).

Having received notice of Morey's conviction for violating the AECA, and after providing notice to and an opportunity for Morey to make a written submission to the Bureau of Industry and Security as provided in § 766.25 of the Regulations, and having received no submission from Morey, I, following consultations with the Export Enforcement, including the Acting Director, Office of Export Enforcement, have decided to deny Morey's export privileges under the Regulations for a period of five years from the date of his conviction. The five-year period ends on August 11, 2008. I have also decided to revoke all licenses issued pursuant to the Act or Regulations in which Morey had an interest at the time of his conviction.

Accordingly, it is hereby ordered

I. Until August 11, 2008, Gerald Morey, currently incarcerated: Inmate Number: 29600-177, Seagoville FIC, 2113 North Highway 175, Seagoville, Texas 75159, and with an address at: 9715 Vinewood Drive, Dallas, Texas 75228, and, when acting in behalf of Morey, all of his assigns or successors, and when acting for or on behalf of Morey, his representatives, agents or employees, (collectively referred to hereinafter as the “Denied Person”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States.

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. After notice and opportunity for comment as provided in § 766.23 of the Regulations, any other person, firm, corporation, or business organization related to Gerald Morey by affiliation, ownership, control, or position of responsibility in the conduct of trade or related services may also be made subject to the provisions of this Order.

IV. This Order does not prohibit any export, reexport, or other transaction subject to the Regulations where the only items involved that are subject to the Regulations are the foreign-produced direct product of U.S.-origin technology.

V. This Order is effective immediately and shall remain in effect until August 11, 2008.

VI. In accordance with Part 756 of the Regulations, Morey may file an appeal of this Order with the Under Secretary of Commerce for Industry and Security. The appeal must be filed within 45 days from the date of this Order and must comply with the provisions of Part 756 of the Regulations.

VII. A copy of this Order shall be delivered to Morey. This Order shall be published in the Federal Register.

Dated: November 12, 2004.
Eileen M. Albanese,
Director, Office of Exporter Services.

[FR Doc. 04-25696 Filed 11-18-04; 8:45 am]

BILLING CODE 3510-DT-M